NUCLEAR REGULATORY COMMISSION

[Docket Nos. 50-338, 50-339, 50-280, 50-281, 72-16 and 72-2]

North Anna Power Station, Units 1 and 2 and Surry Power Station, Units 1 and 2, North Anna and Surry Independent Spent Fuel Storage Installations; Environmental Assessment and Finding of No Significant Impact

The U.S. Nuclear Regulatory Commission (NRC) is considering issuance of an exemption from Title 10 of the Code of Federal Regulations (10 CFR) Part 40, Section 40.64(b) for Facility Operating License Nos. NPF-4, NPF-7, DPR-32, and DPR-37, issued to Virginia Electric and Power Company (the licensee) for operation of the North Anna and Surry Power Stations, Units 1 and 2, and Special Nuclear Material License Nos. SNM-2507 and SNM-2501 for the Independent Spent Fuel Storage Installations (ISFSIs) at the North Anna and Surry Power Stations, respectively. As required by 10 CFR 51.21, the NRC is issuing this environmental assessment and finding of no significant impact.

Environmental Assessment

Identification of the Proposed Action

The proposed action is an exemption from the reporting requirements of Title 10 of the Code of Federal Regulations (10 CFR) Part 40, Section 40.64(b) regarding the schedule for reporting foreign origin material inventory. The proposed exemption would allow the licensee to change the schedule for reporting its foreign origin source material inventory. Instead of reporting within 30 days after September 30 each year, the licensee proposes to submit a statement of their foreign origin source material inventory once each year concurrently with submittal of their material status report.

The proposed action is in accordance with the licensee's application for an exemption dated November 5, 2001.

The Need for the Proposed Action

The proposed action will enable the licensee to make more effective use of its human resources. Utilities generally schedule refueling outages to occur during seasons of lower demand for electric power, i.e., fall and spring. Currently, the September 30 reporting schedule for foreign origin material inventory competes with refueling outages for human resources. Changing the reporting schedule will free up resources to assist with refueling outages.

Environmental Impacts of the Proposed Action

The NRC has completed its evaluation of the proposed action and concludes that the proposed action involves an administrative activity (a schedular change in reporting foreign origin material inventory) unrelated to plant operations.

The proposed action will not significantly increase the probability or consequences of accidents, no changes are being made in the types of effluents that may be released off site, and there is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Statements for the Surry and North Anna facilities.

Agencies and Persons Consulted

On July 18, 2002, the staff consulted with the Virginia State official, Les Foldesi, of the Virginia Department of Health, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated November 5, 2001. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the internet at the NRC Web site, http://www.nrc.gov/reading-rm/adams/html. Persons who do not have access to ADAMS or who encounter problems in accessing the documents located in ADAMS, should contact the NRC PDR Reference staff by telephone at 1-800-397-4209 or 301-415-4737, or by e-mail to pdr@nrc.gov.

Dated at Rockville, Maryland, this 10th day of September 2002.
For the Nuclear Regulatory Commission.
Herbert N. Berkow,
Director, Project Directorate II, Division of Licensing Project Management, Office of Nuclear Reactor Regulation.

[FR Doc. 02-23462 Filed 9-13-02; 8:45 am]

BILLING CODE 7590-01-P